DEPARTMENT OF TRANSPORTATION

Federal Aviation Administration

14 CFR Part 39

[Docket No. FAA-2009-1166; Directorate Identifier 2009-NM-107-AD]

RIN 2120-AA64

Airworthiness Directives; Airbus Model A300 B2-1C, B2K-3C, B2-203, B4-2C, B4-103, and B4-203 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as: One operator reported loss of both pitch trims following autopilot disengagement after take off. Subsequent shop findings revealed severe damage to the power gears. Mal-phasing between the hydraulic motors was suspected to have induced excessive loads into the gear train, leading to collapse of one bearing on a shaft of the main gear, causing severe tooth damage. The combination of tooth damage and gear tilting caused the disconnection of two of the three hydraulic motors, resulting in jamming of the THSA [Trimmable Horizontal Stabilizer Actuator] gearbox and consequent loss of THSA control. This condition, if not detected and corrected, could lead to further cases of mal-phasing of the hydraulic motors of the THSA, causing degradation of the power gears and potentially resulting in reduced control of the aeroplane. The proposed AD would require actions that are intended to address the unsafe condition described in the MCAI.

DATES: We must receive comments on this proposed AD by January 25, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Airbus SAS-EAW (Airworthiness Office), 1 Rond Point Maurice Bellonte, 31707 Blagnac Cedex, France; telephone +33 5 61 93 36 96; fax +33 5 61 93 44 51; e-mail: account.airworth-eas@airbus.com; Internet http://www.airbus.com.

You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Comments Invited

We invite you to send any written relevant data, views, or arguments about this proposed AD. Send your comments to an address listed under the ADDRESSES section. Include “Docket No. FAA-2009-1166; Directorate Identifier 2009-NM-107-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0111, dated May 13, 2009 (referred to after this as “the MCAI”), to correct an unsafe condition for the specified products. The MCAI states:

One operator reported loss of both pitch trims following autopilot disengagement after take off. Subsequent shop findings revealed severe damage to the power gears. Mal-phasing between the hydraulic motors was suspected to have induced excessive loads into the gear train, leading to collapse of one bearing on a shaft of the main gear, causing severe tooth damage. The combination of tooth damage and gear tilting caused the disconnection of two of the three hydraulic motors, resulting in jamming of the THSA [Trimmable Horizontal Stabilizer Actuator] gearbox and consequent loss of THSA control.

This condition, if not detected and corrected, could lead to further cases of mal-phasing of the hydraulic motors of the THSA, causing degradation of the power gears and potentially resulting in reduced control of the aeroplane.

For the reasons described above, this AD requires repetitive checks [on-airplane phasing inspections and magnetic plug inspections for metal particles on the drain plug using detail inspection methods] of the THSA and corrective actions [replacement of the THSA with a serviceable unit], depending on findings.

You may obtain further information by examining the MCAI in the AD docket.

Relevant Service Information

Airbus has issued Mandatory Service Bulletin A300-27-0201, including Appendices 1, 2, and 3, dated March 9, 2009. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Explanation of Proposed Return of Parts to the Manufacturer

Paragraph (f)(4) of this NPRM specifies to return certain THSA units to the manufacturer. These parts must be returned to the manufacturer so that it can investigate the root cause of the identified unsafe condition. In addition, for certain findings, only the manufacturer can repair/overhaul the unit.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 12 products of U.S. registry. We also estimate that it would take about 5 work-hours per product to comply with the basic requirements of this proposed AD. The average labor rate is $80 per work-hour. Based on these figures, we estimate the cost of the proposed AD on U.S. operators to be $4,800, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2009-1166; Directorate Identifier 2009-NM-107-AD.

Comments Due Date

(a) We must receive comments by January 25, 2010.

Affected ADs

(b) None.

Applicability

(c) This AD applies to Airbus Model A300 B2-1C, B2K-3C, B2-203, B4-2C, B4-103, and B4-203 airplanes, certificated in any category, all serial numbers.

Subject

(d) Air Transport Association (ATA) of America Code 27: Flight Controls.

Reason

(e) The mandatory continuing airworthiness information (MCAI) states:

One operator reported loss of both pitch trims following autopilot disengagement after take off. Subsequent shop findings revealed severe damage to the power gears. Mal-phasing between the hydraulic motors was suspected to have induced excessive loads into the gear train, leading to collapse of one bearing on a shaft of the main gear, causing severe tooth damage. The combination of tooth damage and gear tilting caused the disconnection of two of the three hydraulic motors, resulting in jamming of the THSA [Trimmable Horizontal Stabilizer Actuator] gearbox and consequent loss of THSA control.

This condition, if not detected and corrected, could lead to further cases of mal-phasing of the hydraulic motors of the THSA, causing degradation of the power gears and potentially resulting in reduced control of the aeroplane.

For the reasons described above, this AD requires repetitive checks [on-airplane phasing inspections and magnetic plug inspections for metal particles on the drain plug using detail inspection methods] of the THSA and corrective actions [replacement of the THSA with a serviceable unit], depending on findings.

Actions and Compliance

(f) Unless already done, do the following actions.

(1) Within 4,000 flight hours after the last THSA overhaul or within 250 flight hours after the effective date of this AD, whichever occurs later: Perform an on-airplane phasing inspection of the THSA, and a magnetic plug inspection for metal particles on the drain plug of the THSA, using detailed inspection methods, in accordance with the Accomplishment Instructions of Airbus Mandatory Service Bulletin A300-27-0201, dated March 9, 2009.

(i) If the THSA passes the phasing inspection, but the magnetic plug inspection reveals metal particles that are equal to or less than 1.5 mm (0.059 in.) × 0.5 mm (0.0196 in.), and the depth of the particle layer does not exceed 1 mm (0.0393 in.), repeat the inspections thereafter at intervals not to exceed 2,500 flight hours in accordance with the Accomplishment Instructions of Airbus Mandatory Service Bulletin A300-27-0201, dated March 9, 2009.

(ii) If the THSA passes the phasing inspection, but the magnetic plug inspection reveals metal particles with dimensions greater than 1.5 mm (0.059 in.) × 0.5 mm (0.0196 in.), or a layer of particles with a depth greater than 1 mm (0.0393 in.) is found, before further flight, replace the THSA with a serviceable unit, in accordance with the Accomplishment Instructions of Airbus Mandatory Service Bulletin A300-27-0201, dated March 9, 2009.

(iii) If the THSA fails the phasing inspection and the magnetic plug inspection reveals metal particles that are equal to or less than 1.5 mm (0.059 in.) × 0.5 mm (0.0196 in.), and the depth of the particle layer does not exceed 1 mm (0.0393 in.), within 500 flight hours after the inspection, replace the THSA with a serviceable unit, in accordance with the Accomplishment Instructions of Airbus Mandatory Service Bulletin A300-27-0201, dated March 9, 2009.

(iv) If the THSA fails the phasing inspection and the magnetic plug inspection reveals metal particles with dimensions greater than 1.5 mm (0.059 in.) × 0.5 mm (0.0196 in.), or a layer of particles with a depth greater than 1 mm (0.0393 in.) is found, before further flight, replace the THSA with a serviceable unit, in accordance with the Accomplishment Instructions of Airbus Mandatory Service Bulletin A300-27-0201, dated March 9, 2009.

Note 1: For the purposes of this AD, a detailed inspection is: “An intensive examination of a specific item, installation, or assembly to detect damage, failure, or irregularity. Available lighting is normally supplemented with a direct source of good lighting at an intensity deemed appropriate. Inspection aids such as a mirror, magnifying lenses, etc., may be necessary. Surface cleaning and elaborate procedures may be required.”

Note 2: A “serviceable” THSA is one that has a correct hydraulic motor phasing and no particles or few particles with maximum dimensions of 1.5 mm (0.059 in.) × 0.5 mm (0.0196 in.) and a layer of particles with a maximum depth of 1 mm (0.0393 in.) found on the magnetic plug.

(2) Within 2,500 flight hours after replacing any THSA, perform a phasing inspection of the THSA, and a magnetic plug inspection for metal particles on the drain plug of the THSA, as specified in paragraph (f)(1) of this AD. Replacing the THSA, as required by paragraphs (f)(1)(ii), (f)(1)(iii), and (f)(1)(iv) of this AD, as applicable, does not constitute terminating action for the repetitive inspections as required by paragraph (f)(1)(i) of this AD.

(3) As of the effective date of this AD, do not install a replacement THSA on any airplane, unless it has been inspected in accordance with the requirements of paragraphs (f)(1)(i) through (f)(1)(iv) as applicable, of this AD.

(4) Within 3 weeks after removal of a THSA unit from an airplane, send it to the THSA manufacturer, Goodrich Actuation Systems, Stafford Road Fordhouses, Wolverhampton, West Midlands WV10 7EH, England.

(5) Submit a report of the findings (both positive and negative) of the inspections required by paragraph (f)(1) of this AD to the Manager, Airbus Customer Service Directorate, 1 Rond Point Maurice Bellonte, 31707 Blagnac Cedex France; telephone +33 5 61 93 33 33; telex AIRBU 530526F; fax +33 5 61 93 42 51; at the applicable time specified in paragraph (f)(5)(i) or (f)(5)(ii) of this AD. The report must include the inspection results (including no findings), and replacement or actions to be done.

(i) For any inspection done on or after the effective date of this AD: Submit the report within 30 days after the inspection.

(ii) For any inspection done before the effective date of this AD: Submit the report within 30 days after the effective date of this AD.

FAA AD Differences

Note 3: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency Airworthiness Directive 2009-0111, dated May 13, 2009; and Airbus Mandatory Service Bulletin A300-27-0201, including Appendices 1, 2, and 3, dated March 9, 2009; for related information.

Issued in Renton, WA, on December 3, 2009.
Michael Kaszycki,
Acting Manager, Transport Airplane Directorate, Aircraft Certification Service.

[FR Doc. E9-29575 Filed 12-10-09; 8:45 am]

BILLING CODE 4910-13-P